DEPARTMENT OF HEALTH AND HUMAN SERVICES

Centers for Medicare & Medicaid Services

42 CFR Part 435

Eligibility in the States, District of Columbia, the Northern Mariana Islands, and American Samoa

CFR Correction

In Title 42 of the Code of Federal Regulations, Parts 430 to 481, revised as of October 1, 2015, on page 161, in § 435.301, in paragraph (b)(2)(iii), remove the term “435.330.320” and add the term “435.320” in its place.

[FR Doc. 2016-05484 Filed 3-9-16; 8:45 am]

BILLING CODE 1505-01-D